DEPARTMENT OF COMMERCE

National Oceanic and Atmospheric Administration

50 CFR Part 660

[Docket No. 221206-0261]

RIN 0648-BN16

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective July 23, 2024.

ADDRESSES:

Electronic Access

This rule is accessible via the internet at the Office of the Federal Register website at https://www.federalregister.gov. Background information and documents are available at the Pacific Fishery Management Council's website at https://www.pcouncil.org/.

FOR FURTHER INFORMATION CONTACT: Abbie Moyer, phone: 206-305-9601 or email: abbie.moyer@noaa.gov.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for 2-year periods (i.e., a biennium). NMFS published the final rule to implement harvest specifications and management measures for the 2023-2024 biennium for most species managed under the PCGFMP on December 16, 2022 (87 FR 77007). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its June 2024 meeting, the Council recommended inseason adjustments to commercial non-trawl trip limits for sablefish north of 36° N lat., widow rockfish north of 40°10′ N lat., and yellowtail rockfish north 40°10′ N lat. These adjustments are expected to improve attainment of these stocks in the non-trawl fishery. Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends management measures (e.g., trip limits, area closures, and bag limits) that are meant to mitigate catch so as not to exceed the harvest specifications. The harvest specifications and mitigation measures developed for the 2023-2024 biennium used data collected through the 2021 fishing year. Each of the adjustments to mitigation measures discussed below are based on updated fisheries information that was unavailable when the analysis for the current harvest specifications was completed. As new fisheries data becomes available, adjustments to mitigation measures are projected so as to help harvesters achieve but not exceed the harvest limits.

Sablefish is an important commercial species on the U.S. West Coast with vessels targeting sablefish with both trawl and fixed gear (longlines and pots/traps). Sablefish is managed with a coast-wide OFL and ABC and ACLs that are apportioned north and south of 36° N lat. In 2024, the ACL for sablefish north of 36° N lat. is 7,730 metric tons (mt) with a fishery HG of 6,919 mt. The fishery HG north of 36° N lat. is further divided between the LE and OA sectors with 90.6 percent, or 6,269 mt, going to the LE sector and 9.4 percent, or 650 mt, going to the OA sector. From the 6,269 mt LE allocation, 395 mt is allocated to the LE fixed gear (LEFG) trip limit fishery.

At the June 2024 Council meeting, the Council's Groundfish Management Team (GMT) received requests from industry members and members of the Council's Groundfish Advisory Subpanel (GAP) to examine the potential to increase sablefish trips limits for the LEFG and OA fisheries north of 36° N lat. The intent of increasing trip limits would be to increase harvest opportunities for vessels targeting sablefish. Discussion with GAP and GMT members indicated that sablefish markets continue to be less lucrative than they were prior to 2020 and, consequently, that prices per pound may be a stronger predictor of participation than before, as some vessels opt to target other species instead. Therefore, for both of the northern sablefish sectors, the GMT provided data on 2024 sablefish prices to date, alongside calculated prices, to predict participation for the remainder of the year. This information can help interpret the fleetwide landings projections under each of the low, average, and high price scenarios. Predicted prices for the remainder of the year were calculated using prices in each respective period of recent year(s).

Tables 1 and 2 show projected 2024 landings and attainment under the three modeled price scenarios for status quo and for the new Council recommended trip limits for the LEFG (table 1) and OA (table 2) sectors north of 36° N lat. LEFG landings for the full year are projected to be 55-70 percent of the 2024 landings target under status quo trip limits. So far this year, five LEFG vessels have attained more than 90 percent of the status quo bimonthly limit, indicating that at least some vessels in the fleet would benefit from a trip limit increase. Therefore, the Council recommended Option 1, which projects fleetwide landings at 75-97 percent of the 2024 landings target.

Table 1—Options for Sablefish Trip Limit Increases in the LEFG Sector North of 36° N lat.
Option | Trip limit | Projected landings (rd. wt. mt) under three price scenarios: Low | Projected landings (rd. wt. mt) under three price scenarios: Average | Projected landings (rd. wt. mt) under three price scenarios: High | Target (mt) | Attainment under three price scenarios: Low (%) | Attainment under three price scenarios: Average (%) | Attainment under three price scenarios: High (%)
SQ | 4,500 lbs. (2,041.2 kg)/week not to exceed 9,000 lbs. (4,082.3 kg)/2 months | 209 | 237 | 265 | ᵃ 380 | 55 | 62 | 70
Council Recommendation | 7,000 lbs. (3,175.2 kg)/week not to exceed 14,000 lbs. (6,350.3 kg)/2 months | 284 | 326 | 367 |  | 75 | 86 | 97
ᵃ Landings target is calculated after deducting an amount of assumed discard mortality.

OA landings north of 36° N lat. for the full year are projected to be 79-90 percent of the 2024 landings target under status quo trip limits. So far this year, three OA vessels have attained more than 90 percent of the status quo bimonthly limit, indicating that at least some vessels in the fleet would benefit from a trip limit increase. Therefore, the Council recommended Option 1, which projects fleetwide landings at 88-101 percent of the 2024 landings target.

Table 2—Options for Sablefish Trip Limit Increases in the OA Sector North of 36° N Lat.
Option | Trip limit | Projected landings (rd. wt. mt) under three price scenarios: Low | Projected landings (rd. wt. mt) under three price scenarios: Average | Projected landings (rd. wt. mt) under three price scenarios: High | Target (mt) | Attainment under three price scenarios: Low (%) | Attainment under three price scenarios: Average (%) | Attainment under three price scenarios: High (%)
SQ | 3,000 lbs. (1,360.8 kg)/week not to exceed 6,000 lbs. (2,721.6 kg)/2 months | 492 | 527 | 563 | ᵃ 626 | 79 | 85 | 90
Council Recommendation | 3,500 lbs. (1,587.6 kg)/week not to exceed 7,000 lbs. (3,175.2 kg)/2 months | 551 | 592 | 632 |  | 88 | 95 | 101
ᵃ Landings target is calculated after deducting an amount of assumed discard mortality.

Trip limit increases for sablefish are intended to increase attainment of the non-trawl HG. The proposed trip limit increases do not change projected impacts to co-occurring overfished species, compared to the impacts anticipated in the 2023-2024 harvest specifications, because the projected impacts to those species assume that the entire sablefish ACL is harvested. Therefore, the Council recommended and NMFS is implementing the proposed trip limit increases, by modifying table 2 (North) and table 2 (South) to part 660, subpart E, to reflect trip limit changes for the LEFG fishery north of 36° N lat. and increase the limits from “4,500 lb (2,041 kg) per week, not to exceed 9,000 lb (4,082 kg) per two months” to “7,000 lb (3,175 kg) per week, not to exceed 14,000 lb (6,350 kg) per two months”. NMFS is also implementing, by modifying table 3 (North) and table 3 (South) to part 660, subpart F, to reflect trip limit changes for the OA sablefish fishery north of 36° N lat. and increase the limits from “3,000 lb (1,361 kg) per week, not to exceed 6,000 lb (2,722 kg) per two months” to “3,500 lb (1,588 kg) per week, not to exceed 7,000 lb (3,175 kg) per two. These changes will be in effect until further revised.

The GMT also received a request from industry members at the June 2024 Council meeting to increase the yellowtail rockfish and widow rockfish OA and LEFG trip limits for the remainder of the year. Industry members stated that the abnormally challenging weather conditions have prevented fishing effort that would have typically already occurred this year and, therefore, an increase in trip limits could help make up for lost fishing opportunity once the weather improves.

Currently, between 42° and 40°10′ N lat., the non-trawl fleet in Federal waters is only permitted to use non-bottom contact gear within the Non-Trawl Rockfish Conservation Area (RCA) to access midwater shelf species due to actions taken in September (October 2, 2023, 88 FR 67656) and November (November 29, 2023, 88 FR 83354) of 2023 to mitigate California quillback rockfish encounters. The only current nearshore opportunity off northern California to target midwater rockfish (including yellowtail and widow rockfishes) stocks is with approved non-bottom contact hook-and-line gear configurations. As area closures and gear restrictions have required the fleet to fish offshore, where weather conditions can have a larger impact on smaller vessels typically prosecuting these trip limits, higher trip limits may allow those vessels to land larger volumes across fewer trips, thereby promoting safety at-sea and potentially reducing fuel and operational costs associated with traveling farther offshore.

Widow rockfish is managed with a coast-wide ACL. In 2024, the ACL for widow rockfish is 11,482 mt with a fishery HG of 11,243.7 mt. The fishery HG is further apportioned between the trawl and non-trawl sectors with 10,843.7 mt going to the trawl sector and 400 mt going to the non-trawl sector. Yellowtail rockfish are managed with stock-specific harvest specifications north of 40°10′ N lat. and within the Minor Shelf Rockfish complex south of 40°10′ N lat. In 2024, the ACL for yellowtail rockfish north of 40°10′ N lat. is 5,291 mt with a fishery HG of 4,263.3 mt. The fishery HG is further apportioned between the trawl and non-trawl sectors with 88 percent (3,751.7 mt) going to the trawl sector and 12 percent (511.6 mt) going to non-trawl.

LEFG and OA vessels currently land less than 0.1 percent of the non-trawl allocations of yellowtail and widow rockfishes. The trip limit increases may help facilitate the attainment of the National Standard 1 objective to attain but not exceed optimum yield, while posing very limited risk to co-occurring stocks. For example, canary rockfish are a co-occurring species of concern but are being attained well under their non-trawl commercial allocation. Therefore, the increase of yellowtail and widow rockfish trip limits would unlikely jeopardize their allocation nor create regulatory discards.

Table 3 below shows status quo and new Council recommend trip limits for widow rockfish north of 40°10′ N lat., and table 4 shows the GMT projected landings for 2024 under those limits. To date, fewer than three vessels operating in the LEFG sector have landed widow rockfish north of 40°10′ N lat. in 2024. None of these vessels have come within 50 percent of the trip limit in 2024. Therefore, the projection for the LEFG sector in table 4 does not change under status quo or the Council Recommendation. In the OA sector, there are 12 vessels operating that have landed widow rockfish to date in 2024. Fewer than 3 of these vessels have come within 50 percent of the trip limit.

There would be no conservation risk to the stock if the trip limits increase since it is expected that not many fishery participants would take advantage of the Council's recommended higher trip limits and under both options the sectors would remain well under one percent of the non-trawl allocation of 400 mt. Therefore, the Council recommended and NMFS is implementing higher trip limits, by modifying table 2 (North) to part 660, subpart E, and table 3 (North) to part 660, subpart F, for LEFG and OA widow rockfish north of 40°10′ N lat. as shown in table 3 below. This will allow fishery participants an opportunity to harvest a greater amount in fewer trips, when the weather permits, so as to promote safety at sea and improve attainment of the stock in the non-trawl fishery. These changes will be in effect until further revised.

Table 3—Status Quo and Council Recommended Trip Limits for LEFG/OA Widow Rockfish North of 40°10′ N Lat.
Option | Sector | Area | Jan-Feb | Mar-Apr | May-Jun | Jul-Aug | Sep-Oct | Nov-Dec
Status Quo | LE | N of 40°10′ N lat | 4,000 lbs. (1,814.4 kg)/2 months.
| OA | N of 40°10′ N lat | 2,000 lbs. (907.2 kg)/2 months.
Council Recommendation | LE | N of 40°10′ N lat | 4,000 lbs. (1,814.4 kg)/2 months. |  |  | 6,000 lbs. (2,721.6 kg)/2 months.
| OA | N of 40°10′ N lat | 2,000 lbs. (907.2 kg)/2 months. |  |  | 3,000 lbs. (1,360.8 kg)/2 months.

Table 4—GMT Projected Coastwide Widow Rockfish Landings for 2024
Option | Sector | Projected landings (mt) N of 40°10′ N lat. | Projected landings (mt) S of 40°10′ N lat. | Coastwide non-trawl allocation (mt) | % Attainment
Status Quo | LE OA | 1.0 5.2 | 0.1 1.5 | 400 | <0.1
Council Recommendation | LE OA | 1.0 7.1 | 0.1 1.5 | 400 | <0.1

Table 5 below shows status quo and new Council recommended trip limits for yellowtail rockfish north of 40°10′ N lat. and table 6 shows the projected landings under those limits. To date in 2024, only three vessels operating in the LEFG sector have landed yellowtail rockfish north of 40°10′ N lat. None of these vessels have come within 50 percent of the trip limit. Therefore, the projection of 2.3 mt in landings in the LEFG in 2024 does not change. In the OA sector, there are 44 vessels operating that have landed yellowtail rockfish to date in 2024, but similarly, none of the vessels have come within 50 percent of the trip limit. Therefore, it is not expected they would attain the limit, as they are still projected at 2.0 mt. regardless of the increase in trip limits.

In 2023, fewer than three vessels reached or exceeded their trip limits. There would be no conservation risk to the stock if trip limits increase since it is expected that both sectors would remain under one percent of the non-trawl allocation. Therefore, the Council recommended and NMFS is implementing, higher trip limits by modifying table 2 (North) to part 660, subpart E, and table 3 (North) to part 660, subpart F, to reflect trip limit changes for LEFG and OA yellowtail rockfish north of 40°10′ N lat., as shown in table 5 below, in order to promote safety at sea and increase opportunity for the fishery to achieve its 2024 catch limits. These changes will be in effect until further revised.

Table 5—Status Quo and Alternative Trip Limit Options for LE/OA Yellowtail Rockfish North of 40°10′ N Lat.
Option | Sector | Area | Jan-Feb | Mar-Apr | May-Jun | Jul-Aug | Sep-Oct | Nov-Dec
Status Quo | LE | N of 40°10′ N lat | 3,000 lbs. (1,360.8 kg)/month.
| OA | N of 40°10′ N lat | 1,500 lbs. (680.4 kg)/month.
Council Recommendation | LE | N of 40°10′ N lat | 3,000 lbs. (1,360.8 kg)/month. |  |  | 4,500 lbs. (2,041.2 kg)/month.
| OA | N of 40°10′ N lat | 1,500 lbs. (680.4 kg)/month. |  |  | 2,500 lbs. (1,134 kg)/month.

Table 6—Projected Yellowtail Rockfish North of 40°10′ N Lat. Landings for 2024
Option | Sector | Projected landings (mt) | Non-trawl allocation (mt) | % Attainment
Status Quo | LE OA | 2.3 2.0 | 512 | <0.1
Council Recommendation | LE OA | 2.3 2.0 | 512 | <0.1

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting the NMFS West Coast Region (see FOR FURTHER INFORMATION CONTACT, above), or view at the NMFS West Coast Groundfish website: https://www.fisheries.noaa.gov/region/west-coast.

Pursuant to 5 U.S.C. 553(b), NMFS finds good cause to waive prior public notice and an opportunity for public comment on this action, as notice and comment would be impracticable and contrary to the public interest. The adjustments to management measures in this document modify restrictive trip limits to fisheries in Washington, Oregon, and California, which were developed to keep catch within allocations established by the 2023-2024 harvest specifications. Management measures set at the start of a biennial cycle are intended to help the fishery attain, but not exceed, the catch limits for each stock. The adjustments to commercial non-trawl trip limits for sablefish north of 36° N lat., widow rockfish north of 40°10′ N lat., and yellowtail rockfish north 40°10′ N lat. implemented through this action will improve attainment of these stocks without exceeding their 2023-2024 catch limits. No aspect of this action is controversial, and changes of this nature were anticipated in the final rule for the 2023-2024 harvest specifications and management measures, which published on December 16, 2022 (87 FR 77007).

Delaying implementation to allow for public comment would likely reduce the economic benefits of this action to the commercial fishing industry and the businesses that rely on that industry, because it would be unlikely that the new regulations would publish and could be implemented before the end of the 2024 calendar year. Therefore, providing a comment period for this action could significantly limit the economic benefits to the fishery, and would hamper the potential to achieve optimum yield from the affected fisheries.

Therefore, the NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's June 2024 meeting, and are recommended by the Council. No aspect of this action is controversial, and changes of this nature were anticipated in the biennial harvest specifications and management measures established through a notice and comment rulemaking for 2023-2024 (December 16, 2022, 87 FR 77007).

List of Subjects in 50 CFR Part 660

Fisheries, Fishing, Indian fisheries.

Dated: July 18, 2024.
Lindsay Fullenkamp,
Acting Director, Office of Sustainable Fisheries, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. Revise table 2 (North) to part 660, subpart E, to read as follows:

BILLING CODE 3510-22-P

3. Revise table 2 (South) to part 660, subpart E, to read as follows:

4. Revise table 3 (North) to part 660, subpart F, to read as follows:

5. Revise table 3 (South) to part 660, subpart F, to read as follows:

[FR Doc. 2024-16134 Filed 7-22-24; 8:45 am]

BILLING CODE 3510-22-C